DEPARTMENT OF TRANSPORTATION

Federal Aviation Administration

[Summary Notice No. PE-2012-28]

Petition for Exemption; Reopening of Comment Period

AGENCY: Federal Aviation Administration (FAA), DOT.

ACTION: Notice of petition for exemption; Reopening of comment period.

SUMMARY: This action reopens the comment period for a petition for exemption that was published on May 24, 2012. The relief sought in the petition for exemption would permit ICON Aircraft to incorporate a Spin-Resistant Airframe (SRA) in the ICON A5 at a weight above the current Light-Sport Aircraft (LSA) definition. Independent Aircraft Inc. has requested a reopening of the comment period to allow additional time to address issues associated with an increase in weight of the ICON A5.

DATES: The comment period for the petition for exemption published on May 24, 2012 (77 FR 31063) closed June 13, 2012, and is reopened until July 27, 2012.

ADDRESSES: You may send comments identified by Docket Number FAA-2012-0514 using any of the following methods:

• Government-wide rulemaking web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Carol Greb, ACE-114, (816) 329-4136, Federal Aviation Administration, 901 Locust St., Kansas City, MO 64106.

Background: On May 24, 2012, the FAA published the petition for exemption (77 FR 31063) from ICON Aircraft to allow incorporation of a Spin-Resistant Airframe (SRA) in the ICON A5 at a weight above the current Light-Sport Aircraft (LSA) definition. The FAA requested that comments on the petition be received on or before June 13, 2012, which allowed for a 20 day comment period as suggested by 14 CFR 11.89.

By petition submitted June 28, 2012, Independent Aircraft Inc. requested that the FAA reopen the comment period for 90 days to allow additional time to address issues associated with an increase in weight of the ICON A5. Since Independent Aircraft Inc. has already submitted their comments the FAA will reopen the comment period for an additional 10 days, in lieu of the 90 days requested, to assure that these and any other comments that may be received will be given full consideration.

Reopening of the Comment Period: The FAA has reviewed the request made by Independent Aircraft Inc. for additional time to comment to the petition for exemption (Docket No. FAA-2012-0514.) The petitioner has shown a substantive interest in the petition and good cause for additional time to comment. The FAA has determined that reopening the comment period is consistent with the public interest, and that good cause exists for taking this action.

Accordingly, the comment period for the petition for exemption [Docket No.: FAA-2012-0514] is reopened until July 27, 2012.

This notice is published pursuant to 14 CFR 11.85.

Issued in Washington, DC, on July 9, 2012.
Lirio Liu,
Acting Director, Office of Rulemaking.

[FR Doc. 2012-17370 Filed 7-16-12; 8:45 am]

BILLING CODE 4910-13-P